DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the AFC2ISRC Advisory Group. The purpose of the meeting is to brief the Commander of the AFC2ISR Center. This meeting will be closed to the public.

DATES: February 19, 2004.

ADDRESSES: AFC2ISRC, Langley AFB, VA.

FOR FURTHER INFORMATION CONTACT: Maj Chris Berg, Air Force Scientific Advisory Board Secretariat, 1180 Air Force Pentagon, Rm 5D982, Washington, DC 20330-1180, (703) 697-4811.

Pamela D. Fitzgerald,
Air Force Federal Register Liaison Officer.

[FR Doc. 04-3157 Filed 2-12-04; 8:45 am]

BILLING CODE 5001-05-P